DEPARTMENT OF TRANSPORTATION

Federal Aviation Administration

Harmonization Initiatives

AGENCY: Federal Aviation Administration, DOT.

ACTION: Notice of public meeting.

SUMMARY: The Federal Aviation Administration and the Joint Aviation Authorities will convene meetings to accept input from the public on the Harmonization Work Program. The Federal Aviation Administration and the Joint Aviation Authorities use the Harmonization Work Program to carry out a commitment to harmonize, to the maximum extent possible, various rules. These rules include the operation and maintenance of civil aircraft, and the standards, practices, and procedures governing the design materials, workmanship, and construction of civil aircraft, aircraft engines, and other components. The purpose of this meeting is to give the public an opportunity to provide input to the Harmonization Work Program. This notice announces the date, time, location, and procedures for the public meeting.

DATES: The public meeting will be held on March 4, 2003, starting at 10:30 a.m. Written comments are invited and must be received by February 24, 2003.

ADDRESSES: The public meeting will be held at Central Joint Aviation Authorities, 8-10 Staturnusstraat, Hoofddorp, The Netherlands. Persons unable to attend the meeting may mail their comments in triplicate to: Florence Hamn, Federal Aviation Administration, Office of Rulemaking, ARM-200, 800 Independence Avenue, SW., Washington, DC 20591.

FOR FURTHER INFORMATION CONTACT: Requests to attend and present a statement at the meeting or questions about the logistics of the meeting should be directed to Florence Hamn, Office of Rulemaking, 800 Independence Avenue, SW., Washington, DC 20591; telephone (202) 267-3625, telefax (202) 267-5075.

SUPPLEMENTARY INFORMATION: The Federal Aviation Administration and the Joint Aviation Authorities will convene meetings to accept input from the public on the Harmonization Work Program. On March 3, there will be an authorities only meeting that addresses various certification, operations, maintenance, and harmonization issues. The March 4 public meeting will begin at 10:30 a.m. and the agenda will include:

• Debrief on Items from Authorities only meeting of the Harmonization Management Team (HMT).

• Debrief on Operations/Maintenance/Licensing Harmonization Group specific items.

• Debrief on Certification Codes Harmonization Group specific items.

• FAA/JAA 20th International Conference, May 29-June 3, 2002.

• Review/Approval of Minutes of November 18-19 HMT meeting.

• Update on Airworthiness Rulemaking Prioritization Activities.

• Any Other Business.

Individuals wishing to attend and participate in the meetings must submit name, address, telephone/fax/email, and citizenship information to the person listed under the title FOR FURTHER INFORMATION CONTACT not later than February 24, 2003. The list of attendees must be submitted to the Joint Aviation Authorities before the meeting for security reasons and to prepare name badges that must be worn while in the building.

Lodging Arrangements: There are multiple hotels located near the meeting location. For further information about lodging, please contact the person listed under the title FOR FURTHER INFORMATION CONTACT.

Participation at the Meetings

The FAA should receive requests from persons who wish to present oral statements at the public meetings by February 24, 2003. Such requests should be sent to Florence Hamn as listed in the section titled FOR FURTHER INFORMATION CONTACT and should include a written summary of oral remarks to be presented, and an estimate of time needed for the presentation. Requests received after the date specified above will be scheduled if time is available; however, the name of those individuals may not appear on the written agenda.

The FAA will prepare a final agenda of speakers, which will be available at the meeting. Every effort will be made to accommodate as many speakers as possible. In addition, the time allocated to each speaker may be less than the amount of time requested.

Meeting Procedures

The following procedures are established to facilitate the meetings:

(1) There will be no admission fee or other charge to attend or to participate in the meeting. The meetings will be open to all persons who have requested in advance to present statements or who register on the day of the meeting subject to availability of space in the meeting room.

(2) There will be morning and afternoon breaks and lunch breaks.

(3) The meetings may adjourn early if scheduled speakers complete their statements in less time than currently is scheduled.

(4) An individual, whether speaking in a personal or a representative capacity for an organization, may be limited to a 10-minute statement. If possible, we will notify the speaker if more time is available.

(5) The FAA will try to accommodate all speakers. If the available time does not permit this, speakers generally will be scheduled on a first-come-first-served basis. However, the FAA reserves the right to exclude some speakers if necessary to present a balance of viewpoints and issues.

(6) Representatives of the FAA and JAA will preside over the meetings.

(7) The FAA and JAA will review and consider all material presented by participants at the meetings. Position papers or material presenting views or information related to proposed harmonization initiatives may be accepted at the discretion of the FAA and JAA presiding officers. The FAA requests that persons participating in the meetings provide five (5) copies of all materials to be presented for distribution to the panel members; other copies may be provided to the audience at the discretion of the participant.

(8) Statements made by members of the meeting panel are intended to facilitate discussion of the issues or to clarify issues. Any statement made during the meeting by a member of the panel is not intended to be, and should not be construed as, a position of the FAA or JAA.

(9) The meetings are designed to solicit public views and more complete information on proposed harmonization initiatives. Therefore, the meetings will be conducted in an informal and nonadversarial manner. No individual will be subject to cross-examination by any other participant; however, panel members may ask questions to clarify a statement and to ensure a complete and accurate record.

Issued in Washington, DC, on February 14, 2003.
Florence L. Hamn,
Acting Manager, Aircraft and Airport Rules Division.

[FR Doc. 03-4054 Filed 2-14-03; 1:49 am]

BILLING CODE 4910-13-P